DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2007 National Survey on Drug Use and Health—(OMB No. 0930-0110)—Revision

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal Government agencies, and other organizations and researchers to establish policy, direct program activities, and better allocate resources.

With the exception of the addition of several follow-up questions on methamphetamine use, no changes to the questionnaire are proposed for the 2007 NSDUH. The proposed additional questions (age at first use and frequency of use in the past 12 months) will be asked of respondents who denied use of methamphetamine in the “core” NSDUH because they didn't think of it as a prescription drug, but in a later series of questions admit to use (Respondents who report use of methamphetamine in the “core” already receive questions on age at first use and frequency of use). The additional burden associated with the new questions will be negligible because only a small subset of the sample will receive them.

As with all NSDUH/NHSDA surveys conducted since 1999, the sample size of the survey for 2007 will be sufficient to permit prevalence estimates for each of the fifty states and the District of Columbia. The total annual burden estimate is shown below:

Activity | Number of respondents | Number of responses per respondent | Average burden hours per respondent | Total burden hours
Household Screening | 182,250 | 1 | .083 | 15,127
Interview | 67,500 | 1 | 1.0 | 67,500
Screening Verification | 5,494 | 1 | .067 | 368
Interview Verification | 10,125 | 1 | .067 | 678
Total | 182,250 |  |  | 83,673

Written comments and recommendations concerning the proposed information collection should be sent by July 10, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 26, 2006.
Anna Marsh,
Director, Office of Program Services.

[FR Doc. E6-8910 Filed 6-7-06; 8:45 am]

BILLING CODE 4162-20-P